EXPORT-IMPORT BANK OF THE UNITED STATES

Sunshine Act Meeting

AGENCY: Export-Import Bank of the United States.

ACTION: Cancellation of a Government in the Sunshine Meeting.

Original Time and Place: Thursday, April 27, 2006 at 9:30 a.m.

Place: Room 1143, 811 Vermont Avenue, NW., Washington, DC 20571.

The Export-Import Bank of the United States has cancelled the Government in the Sunshine meeting which was scheduled for April 27, 2006. The Bank will reschedule this meeting at a future date. Earlier announcement of this cancellation was not possible.

FOR FURTHER INFORMATION CONTACT: For further information, contact: Office of the Secretary, 811 Vermont Avenue, NW., Washington, DC 20571 (Tele. No. 202-565-3957).

Howard A. Schweitzer,
General Counsel (Acting).

[FR Doc. 06-4101 Filed 4-26-06; 4:08 am]

BILLING CODE 6690-01-M